DEPARTMENT OF COMMERCE

Economics and Statistics Administration

Performance Review Board Membership

AGENCY: Economics and Statistics Administration, Department of Commerce.

ACTION: Notice.

SUMMARY: Below is a listing of individuals who are eligible to serve on the Performance Review Board (PRB) in accordance with the Economics and Statistics Administration's (ESA) Senior Executive Service and Senior Professional performance management systems:

Kenneth A. Arnold, Deputy Under Secretary for Economic Affairs, ESA

Lisa M. Blumerman, Associate Director for Decennial Census Programs, Census Bureau

William G. Bostic, Jr., Associate Director for Economic Programs, Census Bureau

Stephen B. Burke, Chief Financial Officer and Director for Administration, ESA

Joanne Buenzli Crane, Associate Director for Administration and Chief Financial Officer, Census Bureau

Austin J. Durrer, Chief of Staff, ESA

Susan Helper, Special Advisor, ESA

Ron S. Jarmin, Assistant Director for Research and Methodology, Census Bureau

Enrique Lamas, Associate Director for Demographic Programs, Census Bureau

Harry Lee, Assistant Director for Information Technology and Deputy Chief Information Officer, Census Bureau

Thomas A. Louis, Associate Director for Research and Methodology, Census Bureau

Jennifer Madans, Associate Director for Science, Center for Disease Control and Prevention

Brent R. Moulton, Associate Director for National Economics, Bureau of Economic Analysis

Brian C. Moyer, Director, Bureau of Economic Analysis

Joel D. Platt, Associate Director for Regional Economics, Bureau of Economic Analysis

Nancy A. Potok, Deputy Director, Census Bureau

Pravina A. Raghavan, Senior Advisor for Policy and Program Integration, Office of the Deputy Secretary

Angela Simpson, Deputy Assistant Secretary for Communications and Information, National Telecommunications and Information Administration

Jeannie L. Shiffer, Associate Director for Communications, Census Bureau

Sarahelen Thompson, Associate Director for International Economics, Bureau of Economic Analysis

Katherine K. Wallman, Chief Statistician, Office of Management and Budget

The purpose of a PRB is to provide fair and impartial review of recommended SES/ST performance ratings, bonuses, and pay adjustments and Presidential Rank Award nominations. The term of each PRB member will expire on December 31, 2017.

FOR FURTHER INFORMATION CONTACT: Latasha Ellis, Executive Resources Office, 301-763-3727.

Dated: October 12, 2015.
Stephen B. Burke,
Chief Financial Officer and Director for Administration, Chair, ESA Performance Review Board.

[FR Doc. 2015-26586 Filed 10-19-15; 8:45 am]

BILLING CODE 3510-BS-P